DEPARTMENT OF THE INTERIOR

Bureau of Land Management

[Az-020-00-1232-EA, AZA-28882]

Closure of Public Lands to Vehicle Use on February 19 and 20, 2000

AGENCY: Bureau of Land Management, Interior.

ACTION: Temporary closure of selected public land roads and washes in Maricopa County, Arizona, during the operation of the Gila Bend “Gila Monster” Off-Highway Vehicle (OHV) race.

Affected course is described as follows:

Gila and Salt River Meridian, Arizona

T. 6 S., R. 2 W.,

T. 6 S., R. 3 W.,

T. 6 S., R. 4 W.

General location is southeast of Gila Bend, Arizona; south of Interstate 8, north of the Barry M. Goldwater Range, east of State Highway 85 and west of Big Horn road.

SUMMARY: The Phoenix Field Office Manager announces the temporary closure of selected public land roads and washes under its administration in Maricopa County, Arizona. This action is being taken to help ensure public safety and prevent unnecessary environmental degradation during the official permitted running of the Gila Bend “Gila Monster” OHV race.

EFFECTIVE DATES: February 19 and 20, 2000.

SUPPLEMENTARY INFORMATION: Specific restrictions and closure periods are as follows:

The entire designated Gila Bend OHV race course determined and in effect as of February 4, 2000 comprised of BLM and private unimproved roads and washes.

2. The course will be closed to public use from 8 a.m. to 4:30 p.m. on Saturday, February 19, 2000 and from 8 a.m. to 2:30 p.m. on Sunday, February 20, 2000.

3. The entire designated race course is closed to all vehicles, including OHVs, with the exception of authorized and emergency vehicles. The above restrictions do not apply to emergency vehicles and vehicles owned by the United States Government, Arizona Game and Fish Department or Maricopa County. Vehicles and OHVs under permit for operation by event participants must follow the race permit stipulations. Authority for closure of public lands is found in 43 CFR 8340, Subpart 8341 and 43 CFR 8360, Subpart 8364.1. Persons who violate this closure order are subject to arrest and, upon conviction, may be fined not more than $1,000 and/or imprisoned for not more than 12 months.

FOR FURTHER INFORMATION CONTACT: Jack Watts, Field Office Law Enforcement Ranger, or Penny Foreman, Recreation Specialist, Phoenix Field Office, 2015 West Deer Valley Road, Phoenix, Arizona 85027, (623) 580-5500.

Dated: February 8, 2000.
Margo E. Fitts,
Assistant Field Manager.

[FR Doc. 00-3385 Filed 2-11-00; 8:45 am]

BILLING CODE 4310-32-M